DEPARTMENT OF COMMERCE

National Oceanic and Atmospheric Administration

RIN 0648-XC767

Endangered and Threatened Species; Take of Anadromous Fish

AGENCY: National Marine Fisheries Service (NMFS), National Oceanic and Atmospheric Administration, Commerce.

ACTION: Notice of availability.

SUMMARY: This notice advises the public that three direct take permits have been issued pursuant to the Endangered Species Act of 1973 (ESA) for operation, monitoring, and evaluation of hatchery programs rearing and releasing spring Chinook salmon in the Wenatchee River basin of Washington state, and that the decision documents are available upon request.

DATES: Permits 18118, 18120, and 18121 were issued on July 2, 2013, subject to certain conditions set forth therein. Subsequent to issuance, the necessary countersignatures by the applicants were received. The permits expire on July 1, 2026.

ADDRESSES: Requests for copies of the decision documents or any of the other associated documents should be directed to the Salmon Management Division, NOAA's National Marine Fisheries Service, 1201 NE Lloyd Blvd., Suite 1100, Portland, OR97232. The documents are also available on the Internet at www.nwr.noaa.gov.

FOR FURTHER INFORMATION CONTACT: Amilee Wilson, Lacey, WA, at phone number: (360) 753-5820, email: amilee.wilson@noaa.gov

SUPPLEMENTARY INFORMATION: This notice is relevant to the following species and evolutionarily significant units (ESUs) pursuant to section 10 (a)(1)(A) of the Endangered Species Act.

Chinook salmon (Oncorhynchus tshawytscha): endangered, naturally produced and artificially propagated Upper Columbia River spring.

Dated: July 16, 2013.
Angela Somma,
Chief, Endangered Species Division, Office of Protected Resources, National Marine Fisheries Service.

[FR Doc. 2013-17397 Filed 7-18-13; 8:45 am]

BILLING CODE 3510-22-P